DEPARTMENT OF COMMERCE

International Trade Administration

[A-588-056]

Melamine in Crystal Form From Japan: Revocation of Antidumping Duty Finding

AGENCY: Import Administration, International Trade Administration, Department of Commerce.

ACTION: Notice of revocation of the antidumping duty finding on melamine in crystal form from Japan.

SUMMARY: On August 2, 2004, the Department of Commerce (“the Department”) initiated a sunset review of the antidumping duty finding on melamine in crystal form from Japan. See Initiation of Five-Year (“Sunset”) Reviews, 69 FR 46134 (August 2, 2004). Because no domestic party responded to the sunset review notice of initiation by the applicable deadline, the Department is revoking the antidumping duty finding on melamine in crystal form from Japan.

EFFECTIVE DATE: September 1, 2004.

FOR FURTHER INFORMATION CONTACT: Martha V. Douthit, Office of Policy, Import Administration, International Trade Administration, U.S. Department of Commerce, 14th Street and Constitution Avenue, NW., Washington, DC 20230; telephone: (202) 482-5050.

SUPPLEMENTARY INFORMATION:

Background

On February 2, 1977, the Treasury Department published in the Federal Register its antidumping duty finding on melamine in crystal form from Japan. See 42 FR 6866 (February 2, 1977). On September 1, 1999, pursuant to 19 CFR 351.218(f)(4), the Department published in the Federal Register notice of continuation of the antidumping duty finding following the first sunset review. See Continuation of Antidumping Duty Finding: Melamine from Japan, 64 FR 47764 (September 1, 1999). On August 2, 2004, the Department initiated a second sunset review of this finding pursuant to section 751(c) of the Tariff Act of 1930, as amended, (the “Act”) and 19 CFR part 351, in general. See Initiation of Five-Year (“Sunset”) Reviews, 69 FR 46134 (August 2, 2004). As a courtesy to interested parties, the Department sent letters, via certified and registered mail, to each party listed on the Department's most current service list for this proceeding to inform them of the automatic initiation of a sunset review of this finding. We received no response from the domestic industry by the deadline date. See 19 CFR 351.218(d)(1)(i). As a result, the Department determined that no domestic party intends to participate in the sunset review. On August 23, 2004, the Department notified the International Trade Commission (“ITC”) in writing that we intended to issue a final determination revoking this antidumping duty finding. See 19 CFR 351.218(d)(1)(iii)(B).

Scope

This Treasury Finding covers melamine in crystal form, which is a fine white crystalline powder used to manufacture melamine formaldehyde resins, and is currently classifiable under item 2933.61.00 of the Harmonized Tariff Schedule of the United States (“HTSUS”). Although the HTSUS subheading is provided for convenience and customs purposes, the written description remains dispositive.

Determination To Revoke

Pursuant to section 751(c)(3)(A) of the Act and 19 CFR 351.218(d)(1)(iii)(B)(3), if no domestic interested party responds to the notice of initiation, the Department shall issue a final determination, within 90 days after the initiation of the review, revoking the finding. Because no domestic interested party filed a notice of intent to participate or a substantive response, the Department finds that no domestic interested party is participating in this review. Therefore, we are revoking this antidumping duty finding effective September 1, 2004, the fifth anniversary of the date of the determination to continue the finding, consistent with 19 CFR 351.222(i)(2)(i) and section 751(c)(6)(A)(iii) of the Act.

Effective Date of Revocation

Pursuant to sections 751(c)(3)(A) and 751(c)(6)(A)(iii) of the Act, and 19 CFR 351.222(i)(2)(i), the Department will instruct U.S. Customs and Border Protection to terminate the suspension of liquidation of the merchandise subject to this finding entered, or withdrawn from warehouse, on or after September 1, 2004. Entries of subject merchandise prior to the effective date of revocation will continue to be subject to suspension of liquidation and antidumping duty deposit requirements. The Department will complete any pending administrative reviews of this finding and will conduct administrative reviews of subject merchandise entered prior to the effective date of revocation in response to appropriately filed requests for review.

This five-year (“sunset”) review and notice are in accordance with sections 751(c) and 777(i)(1) of the Act.

Dated: October 15, 2004.
Jeffrey A. May,
Acting Assistant Secretary for Import Administration.

[FR Doc. E4-2791 Filed 10-20-04; 8:45 am]

BILLING CODE 3510-DS-P